DEPARTMENT OF HEALTH AND HUMAN SERVICES

National Institutes of Health

Submission for OMB Review; 30-Day Comment Request Introduction to Cancer Research Careers (ICRC) Application (NCI)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Agustina Boswell, Program Coordinator, Office of Workforce Planning and Development, National Cancer Institute, 9609 Medical Center Drive, Room 2E-134, Rockville, Maryland 20892 or call non-toll-free number (240) 276-5162 or Email your request, including your address to: boswellam@mail.nih.gov. Formal requests for additional plans and instruments must be requested in writing.

SUPPLEMENTARY INFORMATION: This proposed information collection was previously published in the Federal Register on May 10, 2019, (84 FR 20642) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: The National Cancer Institute's Introduction to Cancer Research Careers (ICRC) Application (NCI), 0925-XXXX, Exp., Date XX/XXXX, NEW, National Cancer Institute (NCI), National Institutes of Health (NIH).

Need and Use of Information Collection: The National Cancer Institute's (NCI) ICRC fellowship program supports NCI's goal of training cancer researchers for the 21st century. Applying to the ICRC program through the ICRC website application is required in order for undergraduates, postbaccalaureate, graduate student candidates to be considered for entry into the program. The purpose of the ICRC Application is to assure that candidates for the ICRC program meet basic eligibility requirements; to assess their potential as future scientists; to determine where mutual research interests exist; and to make decisions regarding which applicants will be proposed and approved for fellowship awards. The information is for internal use to make decisions about prospective fellows and students that could benefit from the ICRC program.

OMB approval is requested for 3 years. There are no costs to respondents other than their time. The total estimated annualized burden are 240 hours.

Estimated Annualized Burden Hours
Type of respondent | Number of respondents | Number of responses per respondent | Average time per response (in hours) | Total annual burden hours
Individuals | 120 | 1 | 1 | 120
Individuals | 240 | 1 | 30/60 | 120
Totals |  | 360 |  | 240

Patricia M. Busche,
Project Clearance Liaison, National Cancer Institute, National Institutes of Health.

[FR Doc. 2019-18426 Filed 8-26-19; 8:45 am]

BILLING CODE 4140-01-P